DEPARTMENT OF HEALTH AND HUMAN SERVICES

Centers for Disease Control and Prevention

[Docket Number NIOSH-120]

Notice of Draft Document Available for Public Comment

AGENCY: National Institute for Occupational Safety and Health (NIOSH) of the Centers for Disease Control and Prevention (CDC), Department of Health and Human Services (HHS).

SUMMARY: The National Institute for Occupational Safety and Health (NIOSH) of the Centers for Disease Control and Prevention (CDC) announces the availability of the following draft document available for public comment entitled “NIOSH Alert: Preventing Chronic Beryllium Disease and Beryllium Sensitization.” The document and instructions for submitting comments can be found at http://www.cdc.gov/niosh/review/public/120/.

Public Comment Period: March 6, 2008 through May 12, 2008.

Status: Written comments may be submitted to the NIOSH Docket Office, Robert A. Taft Laboratories, 4676 Columbia Parkway, Mailstop C-34, Cincinnati, Ohio 45226, (513) 533-8611. All material submitted to the Agency should reference NIOSH Docket number 120 and must be submitted by May 12, 2008, to be considered by the Agency. All electronic comments should be formatted as Microsoft Word.

All information received in response to this notice will be available for public examination and copies available at the NIOSH Docket Office, Room 111, 4676 Columbia Parkway, Cincinnati, Ohio 45226.

Background: Beryllium is a lightweight metal with many remarkable properties, including heat resistance and conductance, electrical conductance, flexibility, formability, neutron moderation, x-ray transparency, and lubricity. Exposure to beryllium can lead to sensitization, a cell-mediated allergic-type response, and cause a granulomatous lung disease called chronic beryllium disease.

The Alert describes the nature of the lung disease and other health effects that can occur from exposure to beryllium and beryllium-containing materials and recommends steps companies and workers should take to minimize the health risk to workers. This guidance document does not have the force and effect of law.

Contact Person for Technical Information: Christine R. Schuler, PhD, Research Epidemiologist, Division of Respiratory Disease Studies, NIOSH. To ask technical questions, please call (304) 285-6369 or send e-mail to BeAlert@cdc.gov. All comments on the Alert must be submitted as stated in the Status section.

Reference: NIOSH Alert: Preventing Chronic Beryllium Disease and Beryllium Sensitization http://www.cdc.gov/niosh/review/public/120/.

Dated: February 29, 2008.
James D. Seligman,
Chief Information Officer, Centers for Disease Control and Prevention.

[FR Doc. E8-4332 Filed 3-5-08; 8:45 am]

BILLING CODE 4163-19-P